ENVIRONMENTAL PROTECTION AGENCY

40 CFR Parts 52 and 81

[R07-OAR-2004-MO-0003; FRL-7804-3]

Approval and Promulgation of Implementation Plans; State of Missouri; Designation of Areas for Air Quality Planning Purposes, Iron County; Arcadia and Liberty Townships; Withdrawal of Direct Final Rule

AGENCY: Environmental Protection Agency (EPA).

ACTION: Withdrawal of direct final rule.

SUMMARY: On June 30, 2004 (69 FR 39337), EPA published a direct final rule announcing the redesignation of the lead nonattainment area in Iron County, Missouri, to attainment of the National Ambient Air quality Standard (NAAQS) for lead and announcing the approval of the maintenance plan for this area including a settlement agreement. The direct final action was published without prior proposal because EPA anticipated no adverse comment. EPA stated in the direct final rule that if EPA received adverse comment by July 30, 2004, EPA would publish a timely withdrawal in the Federal Register. EPA subsequently received a timely adverse comment on the direct final rule. Therefore, EPA is withdrawing the direct final approval. EPA will address the comment in a subsequent final action based on the parallel proposal also published on June 30, 2004 (69 FR 39382). As stated in the parallel proposal, EPA will not institute a second comment period on this action.

DATES: The direct final rule published on June 30, 2004, at 69 FR 39337, is withdrawn as of August 24, 2004.

FOR FURTHER INFORMATION CONTACT: James Hirtz at (913) 551-7472 or by e-mail at hirtz.james@epa.gov.

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control, Lead, National parks, Wilderness area.

Dated: August 12, 2004.
William A. Spratlin,
Acting Regional Administrator, Region 7.

Accordingly, the revision to 40 CFR 52.1320 and 40 CFR 81.326, published in the Federal Register on June 30, 2004 (69 FR 39337), which was to become effective on August 30, 2004, is withdrawn.

[FR Doc. 04-19230 Filed 8-23-04; 8:45 am]

BILLING CODE 6560-50-P